DEPARTMENT OF THE INTERIOR

Minerals Management Service

Delegation to States, State of Alaska

ACTION: Solicitation of comments.

SUMMARY: The State of Alaska has requested a delegation of audit and investigation authority from the Minerals Management Service (MMS). This Notice gives the public an opportunity to review and comment on the State's proposal, which is posted on our Web site at http://www.mrm.mms.gov/Laws_R_D/FRNotices/FRNotices.htm.

DATES: Submit written comments on or before October 20, 2003.

ADDRESSES: Address your comments and suggestions regarding this proposal to Sharron L. Gebhardt, Regulatory Specialist by one of the following:

• Regular U.S. mail: Center for Excellence, Minerals Revenue Management, Minerals Management Service, P.O. Box 25165, MS 320B2, Denver, Colorado 80225-0165; or

• Overnight mail or courier: Attn: Sharron L. Gebhardt, 303-231-3211, Center for Excellence, Minerals Revenue Management, Minerals Management Service, Building 85, Room A614, Denver Federal Center, Denver, Colorado 80225-0165; or

• Email: MRM.comments@mms.gov. Please submit Internet comments as an ASCII file and avoid the use of special characters and any form of encryption. Also, please include “Attn: Delegation to States, State of Alaska; Solicitation of Comments” and your name and return address in your Internet message. If you do not receive a confirmation that we have received your Internet message, call the contact person listed below.

FOR FURTHER INFORMATION, CONTACT: Sharron L. Gebhardt at telephone (303) 231.3211, fax (303) 231.3781, email sharron.gebhardt@mms.gov, or P.O. Box 25165, MS320B2, Denver Federal Center, Denver, Colorado 80225-0165.

SUPPLEMENTARY INFORMATION: Introduction: The Secretary of the U.S. Department of the Interior (DOI) is responsible for collecting royalties from lessees who produce minerals from leased Federal and Indian lands. The Secretary is required by various laws to manage mineral resources production on Federal and Indian lands; collect the royalties due; perform audits, inspections, and investigations related to mineral royalties; and distribute the funds in accordance with those laws. MMS performs the royalty management functions and assists the Secretary in carrying out DOI's Indian trust responsibility.

The Federal Oil and Gas Royalty Management Act of 1982 (FOGRMA), 30 U.S.C. 1701 et seq., and specifically section 205 of FOGRMA, 30 U.S.C. 1735 provide for the delegation of audits, inspections, and investigations to States.

The State of Alaska proposes to conduct audits and investigations for producing Federal oil and gas leases within the State, for producing Federal oil and gas leases in the Outer Continental Shelf subject to revenue sharing under 8(g) of the Outer Continental Shelf Lands Act, 43 U.S.C. 1337 (g), and for other producing solid mineral or geothermal Federal leases within the State. The State requests 100 percent funding of the delegated functions for a 3-year period. We anticipate beginning on October 1, 2003, with an option to extend for an additional 3-year period.

Background: The State of Alaska had a cooperative agreement with MMS from March 27, 1985, to June 30, 1989. Consequently, MMS has determined that a formal hearing for comments will not be held under 30 CFR Section 227.105. This Notice provides the opportunity for public comment on the State's proposal, which was initially submitted on May 3, 1999. However, under the FOGRMA statutory requirements, MMS was prohibited from allowing the State to conduct audits on Alaskan Native Lands without the express written permission of Cook Inlet Regional, Inc. (CIRI), an Alaskan Native corporation that shares joint ownership interest in numerous leases with the Federal Government. On March 6, 2003, MMS received written approval from CIRI for the Alaska Department of Natural Resources to audit these jointly owned leases, on the condition that MMS will continue to provide all information to CIRI as in the past. If this delegation proposal is approved, Alaska will join 10 other States that have audit delegation agreements with MMS.

Dated: August 28, 2003.
Lucy Querques Denett,
Associate Director for Minerals Revenue Management.

[FR Doc. 03-23858 Filed 9-17-03; 8:45 am]

BILLING CODE 4310-MR-P